DEPARTMENT OF AGRICULTURE

Forest Service

Eastern Idaho Resource Advisory Committee; Caribou-Targhee National Forest, Idaho Falls, ID

AGENCY: Forest Service, USDA.

ACTION: Notice of meeting.

SUMMARY: Pursuant to the authorities in the Federal Advisory Committee Act (Pub. L. 92-463) and under the Secure Rural Schools and Community Self-Determination Act of 2000 (Pub. L. 106-393) the Caribou-Targhee National Forests' Eastern Idaho Resource Advisory Committee will meet Wednesday, April 30, 2003 in Idaho Falls for a business meeting. The meeting is open to the public.

DATES: The business meeting will be held on April 30, 2003 from 9 a.m. to 3 p.m.

ADDRESSES: The meeting location is the Caribou-Targhee National Forest Headquarters Office, 1405 Hollipark Drive, Idaho Falls, Idaho 83402.

FOR FURTHER INFORMATION CONTACT: Jerry Reese, Caribou-Targhee National Forest Supervisor and Desiganted Federal Officer, at (208) 524-7500.

SUPPLEMENTARY INFORMATION: The business meeting on April 30, 2003, begins at 9 a.m. at the Caribou-Targhee National Forest Headquarters Office, 1405 Hollipark Drive, Idaho Falls, Idaho. Agenda topics will include presentations from project proposals and the resource advisory committee making final funding requests.

Dated: March 24, 2003.
Jerry B. Reese,
Caribou-Targhee Forest Supervisor.

[FR Doc. 03-7593 Filed 3-28-03; 8:45 am]

BILLING CODE 3410-11-M